OFFICE OF THE UNITED STATES TRADE REPRESENTATIVE

Request for Comments and Notice of Fourth United States-Mexico-Canada Agreement Environment Committee Meeting

AGENCY: Office of the United States Trade Representative.

ACTION: Request for comments and notice of committee meetings.

SUMMARY: The Parties to the United States-Mexico-Canada Agreement (USMCA) intend to hold the fourth meeting of the Environment Committee (Committee) on December 11, 2025. Following the government-to-government Committee meeting, the Committee will hold a virtual public session, pursuant to Article 24.26.8 of the USMCA. The Office of the United States Trade Representative (USTR) invites interested parties to join the public session, and seeks written comments on the implementation and operation of Chapter 24 (Environment) prior to the public session.

DATES:

December 5, 2025, at 11:59 p.m. EDT: Deadline for submission of written comments and/or intent to participate in the public session.

December 11, 2025, from 10:00 a.m. to 2:30 p.m. EDT: The Parties will host the fourth meeting of the Environment Committee.

December 11, 2025, from 3:30 p.m. to 4:30 p.m. EDT: The Parties will host a virtual public session of the Committee.

ADDRESSES: Submit written comments and/or your interest in joining the public session to Judith Webster, Director for Environment and Natural Resources, by email at judith.a.webster@ustr.eop.gov with the subject line USMCA Environment Committee Meeting.

FOR FURTHER INFORMATION CONTACT: Judith Webster, Director for Environment and Natural Resources, at judith.a.webster@ustr.eop.gov, or 202-881-7318.

SUPPLEMENTARY INFORMATION:

I. Background

Article 24.26 of the USMCA establishes an Environment Committee composed of senior government representatives to oversee the implementation of Chapter 24 (Environment), and provide a forum to discuss and review chapter implementation. The USMCA requires the Committee to meet within one year of the date of entry into force of the USMCA and every two years thereafter unless the Committee agrees otherwise. The Committee last held a biannual meeting on September 26, 2023. The Committee also met in special sessions twice in 2025 (February and June) for the purpose of conducting the requisite five-year review of Chapter 24 (Article 24.26.7). All decisions and reports of the Committee will be made publicly available, unless the Committee decides otherwise. The Committee will provide for public input on matters relevant to the Committee's work, as appropriate, and hold a public session at each meeting.

II. Committee Meeting

On December 11, 2025, the Committee will meet in a government-to-government session to (1) review the implementation and operation of Chapter 24, in accordance with Article 24.26(7)(a) of the USMCA and (2) receive a presentation from the Commission on Environmental Cooperation (CEC) Secretariat on cooperation and public Submissions for Enforcement Matters (SEMs). This session will not be open to the public.

III. Public Session on USMCA Chapter 24 Implementation

Following the government-to-government session, the Committee invites all interested persons to attend a virtual public session on USMCA Chapter 24 implementation. At the session, the Committee will welcome questions and input concerning the Parties' implementation of the Chapter 24 obligations. The Committee will cover both questions raised in comments submitted to USTR, and those submitted through a live chat function, during the public session, overseen by a moderator. Email Judith Webster, Director for Environment and Natural Resources, at judith.a.webster@ustr.eop.gov for a link to join the live session. Registration is required by December 5, 2025.

IV. Comments

USTR invites all interested persons to submit their interest in participating in the public session, as well as comments on the implementation and operation of Chapter 24. As noted, during the public session, there will also be an allotted time for the public to ask questions through a chat function that a moderator will oversee. Accordingly, participation in the public session is not limited to those questions submitted through comments in advance of the session. When preparing comments, we encourage submitters to refer to Chapter 24 of the USMCA: https://ustr.gov/sites/default/files/IssueAreas/Environment/USMCA_Environment_Chapter_24.pdf.

Kelly Milton,
Assistant U.S. Trade Representative for Environment and Natural Resources, Office of the United States Trade Representative.

[FR Doc. 2025-21292 Filed 11-25-25; 8:45 am]

BILLING CODE 3390-F4-P